POSTAL REGULATORY COMMISSION

[Docket No. MC2013-38; Order No. 1649]

Removal of Postal Product

AGENCY: Postal Regulatory Commission.

ACTION: Notice.

SUMMARY: The Commission is noticing a recent Postal Service filing concerning the removal of Confirm service from the market dominant product list. This notice informs the public of the filing, invites public comment, and takes other administrative steps.

DATES: Comments are due: February 15, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION: Notice of filing. The Commission hereby provides notice that on February 1, 2013, the Postal Service filed a Request pursuant to 39 U.S.C. 3642 and 39 CFR 3020.30 et seq., seeking to remove Confirm service from the market dominant product list in the Mail Classification Schedule.¹

¹ Request of the United States Postal Service to Remove Confirm Service from the Market-Dominant Product List, February 1, 2013 (Request).

Product description. Confirm service provides value to mailers by allowing them to receive raw processing scan data when identifying barcodes (Intelligent Mail or PLANET Code) are placed onto mailpieces. Request at 1. The scan data are used to estimate when mailpieces will be delivered to recipients, allowing mailers to utilize this information to coordinate additional outreach with the delivery of mailpieces. Id. at 1-2.

Since the scan data offered through Confirm service provides added value to mailers, the Postal Service has incorporated the scan data function into Intelligent Mail barcode (IMb) Tracing, which is available at no fee as part of the classes of mail containing letters and flats. Id. at 2. As a result, mailers will continue to have access to the scan data when they place an IMb on their mailpieces. Id. Since there is a no fee alternative and all Confirm service subscriptions expired on January 21, 2013, the Postal Service states that removal of Confirm service from the market dominant product list fulfills the applicable criteria of 39 U.S.C. 3642.

Public documents. The Request includes the following supporting publicly-available material:

• Attachment A—A copy of Governors' Resolution No. 12-09, adopted October 5, 2012, authorizing the Request;

• Attachment B—A Statement of Supporting Justification addressing applicable rule 3020.32 requirements; and

• Attachment C—The proposed revision to the Mail Classification Schedule.

Proceedings. The Commission establishes Docket No. MC2013-38 for consideration of the instant Request. Interested persons may submit comments on whether the Request is consistent with the policies of 39 U.S.C. 3642 and 39 CFR 3020.30 et seq. Comments are due no later than February 15, 2013. The Postal Service's Request can be accessed via the Commission's Web site (http://www.prc.gov).

James F. Callow is designated as the Public Representative to represent the interests of the general public in this matter.

It is ordered:

1. The Commission establishes Docket No. MC2013-38 for consideration of the Request of the United States Postal Service to Remove Confirm Service from the Market-Dominant Product List, filed February 1, 2013.

2. Pursuant to 39 U.S.C. 505, James F. Callow is appointed to serve as an officer of the Commission (Public Representative) to represent the interests of the general public in this proceeding.

3. Comments are due by February 15, 2013.

4. The Secretary shall arrange for the publication of this Order in the Federal Register.

By the Commission.
Shoshana M. Grove,
Secretary.

[FR Doc. 2013-02963 Filed 2-8-13; 8:45 am]

BILLING CODE 7710-FW-P